DEPARTMENT OF COMMERCE

International Trade Administration

[A-351-841]

Polyethylene Terephthalate Film, Sheet and Strip From Brazil: Final Results of Antidumping Duty Administrative Review; 2013-2014

AGENCY: Enforcement and Compliance, International Trade Administration, Department of Commerce.

SUMMARY: On August 12, 2015, the Department of Commerce (the Department) published the preliminary results of the administrative review of the antidumping duty order on polyethylene terephthalate film, sheet and strip (PET film) from Brazil for the period November 1, 2013 through November 9, 2013.¹ For the final results, we continue to find that respondent Terphane Ltda and Terphane, Inc. (collectively, Terphane) made no shipments of subject merchandise during the period of review (POR). We made no changes to the Preliminary Results.

¹ See Polyethylene Terephthalate Film, Sheet and Strip from Brazil: Preliminary Results of Antidumping Duty Administrative Review; 2013-2014, 80 FR 48292 (August 12, 2015) (Preliminary Results).

DATES: Effective Date: December 15, 2015.

FOR FURTHER INFORMATION CONTACT: Tyler Weinhold or Robert James, AD/CVD Operations, Office VI, Enforcement and Compliance, International Trade Administration, U.S. Department of Commerce, 14th Street and Constitution Avenue NW., Washington, DC 20230; telephone: (202) 482-1121 and (202) 482-0649, respectively.

SUPPLEMENTARY INFORMATION:

Background

On August 12, 2015, the Department published the Preliminary Results in the Federal Register.² In the Preliminary Results, the Department preliminarily determined that Terphane made no shipments during the POR. We invited parties to comment on the Preliminary Results. We received no comments.

² Id.

Scope of the Order

The products covered by the order are all gauges of raw, pre-treated, or primed PET film, whether extruded or co-extruded. Excluded are metallized films and other finished films that have had at least one of their surfaces modified by the application of a performance-enhancing resinous or inorganic layer more than 0.00001 inches thick. Also excluded is roller transport cleaning film which has at least one of its surfaces modified by application of 0.5 micrometers of SBR latex. Tracing and drafting film is also excluded. PET film is classifiable under subheading 3920.62.00.90 of the Harmonized Tariff Schedule of the United States (HTSUS). While HTSUS subheadings are provided for convenience and customs purposes, our written description of the scope of the order is dispositive.

Determination of No Shipments

As noted in the Preliminary Results, we received a no-shipment claim from Terphane, and we confirmed this claim with U.S. Customs and Border Protection (CBP). Because no party commented on our preliminary results, we continue to find that the record indicates that Terphane did not export subject merchandise to the United States during the POR and that it had no reviewable transactions during the POR.

Assessment

Pursuant to 19 CFR 356.8(a), the Department intends to issue assessment instructions to CBP 15 days after the date of publication of these final results of review. On May 6, 2003, the Department clarified its “automatic assessment” regulation.³ This clarification will apply to entries of subject merchandise during the POR for which the reviewed company did not know its merchandise was destined for the United States. In such instances, we will instruct CBP to liquidate unreviewed entries at the all-others rate if there is no rate for the intermediate company(ies) involved in the transaction. For any entries by Terphane, we will instruct CBP to assess antidumping duties in accordance with the reseller policy.

³ See Antidumping and Countervailing Duty Proceedings: Assessment of Antidumping Duties, 68 FR 23954 (May 6, 2003) (reseller policy).

Cash Deposit Requirements

As this order has been revoked in full, and the suspension of liquidation of entries of PET film from Brazil has been lifted, we do not intend to issue cash deposit instructions.⁴

⁴ See Polyethylene Terephthalate Film, Sheet, and Strip From Brazil, the People's Republic of China and the United Arab Emirates: Continuation and Revocation of Antidumping Duty Orders, 80 FR 6689 (February 6, 2015).

Notifications

This notice also serves as a final reminder to importers of their responsibility under 19 CFR 351.402(f)(2) to file a certificate regarding the reimbursement of antidumping duties prior to liquidation of the relevant entries during this review period. Failure to comply with this requirement could result in the Department's presumption that reimbursement of the antidumping duties occurred and the subsequent assessment of doubled antidumping duties.

This notice also serves as a reminder to parties subject to administrative protective orders (APOs) of their responsibility concerning the disposition of proprietary information disclosed under APO in accordance with 19 CFR 351.305, which continues to govern business proprietary information in this segment of the proceeding. Timely written notification of the return or destruction of APO materials or conversion to judicial protective order is hereby requested. Failure to comply with the regulations and the terms of an APO is a sanctionable violation.

This notice is issued and published in accordance with sections 751(a)(1) and 777(i)(1) of the Tariff Act of 1930, as amended.

Dated: December 9, 2015.
Paul Piquado,
Assistant Secretary for Enforcement and Compliance.

[FR Doc. 2015-31564 Filed 12-14-15; 8:45 am]

BILLING CODE 3510-DS-P